DEPARTMENT OF THE INTERIOR

Bureau of Land Management

[NV-910-03-0777XX]

Notice of Public Meeting: Sierra Front/Northwestern Great Basin Resource Advisory Council, Northeastern Great Basin Resource Advisory Council, and Mojave-Southern Great Basin Resource Advisory Council

AGENCY: Bureau of Land Management, Interior.

ACTION: Combined Resource Advisory Council meeting.

SUMMARY: In accordance with the Federal Land Policy and Management Act and the Federal Advisory Committee Act of 1972 (FACA), the Department of the Interior, Bureau of Land Management (BLM) Council meetings will be held as indicated below.

DATES: The three councils will meet on Thursday, October 16 from 8 a.m. to 5 p.m. and Friday, October 17, from 8 a.m. to approximately 1 p.m., in the Sunset Conference Room, Sunset Station, 1301 W. Sunset Road, Henderson, Nevada 89014.

FOR FURTHER INFORMATION CONTACT: Jo Simpson, Chief, Office of Communications, BLM Nevada State Office, 1340 Financial Blvd., Reno, Nevada, telephone (775) 861-6586; or Debra Kolkman at telephone (775) 289-1946.

SUPPLEMENTARY INFORMATION: The 15-member councils advise the Secretary of the Interior, through the BLM, on a variety of planning and management issues associated with public land management in Nevada. They meet separately at various times throughout the year and convene for a joint session once a year, usually in October. Agenda topics will include a presentation and discussion of the outlook for 2004 for the BLM in Nevada, planning for sage grouse habitat conservation, recreation management, land use planning, the BLM Sustaining Working Landscapes policy initiative, and other subjects related to BLM's management of public lands in Nevada. Time will be set aside for the members to meet together by interest group. A public comment period will be at 3 p.m. on Thursday, October 16.

On October 17, the three RACs will meet separately in the morning, and in joint session from noon until about 1 p.m. As part of the morning session, the three RACs will develop accomplishment reports for fiscal year 2003 and meeting schedules and agenda topics for fiscal year 2004. The Northeastern Great Basin and Mojave-Southern Great Basin council members will hear a status report on the Ely Resource Management Plan.

All meetings are one to the public. The public may present written comments to the three RAC groups or the individual RACs. Individuals who plan to attend and need further information about the meeting or need special assistance such as sign language interpretation or other reasonable accommodations, should contact Debra Kolkman at the BLM Nevada State Office, 1340 Financial Blvd., Reno, Nevada, telephone (775) 289-1946.

Dated: September 3, 2003.
Robert V. Abbey,
State Director, Nevada.

[FR Doc. 03-23196 Filed 9-10-03; 8:45 am]

BILLING CODE 4310-HC-M